ENVIRONMENTAL PROTECTION AGENCY

40 CFR Part 81

[EPA-R09-OAR-2008-0467; FRL-9925-57-Region 9]

Designation of Areas for Air Quality Planning Purposes; California; San Joaquin Valley, South Coast Air Basin, Coachella Valley, and Sacramento Metro Ozone Nonattainment Areas; Reclassification

AGENCY: Environmental Protection Agency (EPA).

ACTION: Withdrawal of proposed rule.

SUMMARY: The Environmental Protection Agency (EPA) is withdrawing a proposed action to reclassify the Indian country pertaining to the Pechanga Band of Luiseño Mission Indians (Pechanga Reservation) from “Severe-17” to “Extreme” for the 1997 8-hour ozone national ambient air quality standard.

DATES: The proposed rule published on August 27, 2009 (74 FR 43654) is withdrawn with respect to the Pechanga Reservation on April 3, 2015.

FOR FURTHER INFORMATION CONTACT: Ken Israels, Grants and Program Integration Office (AIR-8), U.S. Environmental Protection Agency, Region IX, (415) 947-4102, israels.ken@epa.gov.

SUPPLEMENTARY INFORMATION: On August 27, 2009 (74 FR 43654), the EPA published a proposed rule to grant requests by the State of California to reclassify four nonattainment areas for the 1997 8-hour ozone national ambient air quality standard (“standard”) and to reclassify Indian country in keeping with the classifications of nonattainment areas within which they are located. On May 5, 2010 (75 FR 24409), the EPA finalized the action as proposed except that EPA deferred reclassification of Indian country pertaining to the Morongo Band of Mission Indians (Morongo Reservation) and the Pechanga Band of Luiseño Mission Indians (Pechanga Reservation) in keeping with the state's request for the South Coast Air Basin. On January 6, 2015 (80 FR 436), the EPA proposed to revise the boundaries of South Coast and San Diego ozone planning areas to designate the Pechanga Reservation as a separate air quality planning area for the 1997 8-hour ozone standard. In the January 6, 2015 proposed rule, the EPA indicated that, if the Agency finalizes the January 6, 2015 proposed rule, as proposed, the EPA would withdraw the August 27, 2009 proposed rule to the extent that the 2009 proposed rule relates to the Pechanga Reservation. See 80 FR 436, at 438 (January 6, 2015). In the Rules and Regulations section of this Federal Register, the EPA is finalizing its January 6, 2015 proposed rule, as proposed. In light of final Agency action on the January 6, 2015 proposal, the EPA is withdrawing the August 27, 2009 proposed reclassification of the Pechanga Reservation for the 1997 8-hour ozone standard.

List of Subjects in 40 CFR Part 81

Environmental protection, Air pollution control, Intergovernmental relations, National parks, Ozone, Wilderness areas.

Dated: March 20, 2015.
Jared Blumenfeld,
Regional Administrator, Region IX.

[FR Doc. 2015-07535 Filed 4-2-15; 8:45 am]

BILLING CODE 6560-50-P